DEPARTMENT OF VETERANS AFFAIRS

Funding Availability: Homeless Providers Grant and Per Diem Program

AGENCY: Department of Veterans Affairs.

ACTION: Notice of Funding Availability (NOFA).

SUMMARY: The Department of Veterans Affairs (VA) is announcing the availability of per diem funds to eligible entities to provide transitional housing beds or service centers for Veterans who are homeless or at risk for becoming homeless under VA's Homeless Providers GPD Program models. VA expects to fund approximately 11,500 beds and approximately 20 service center applications with this Notice of Funding Availability (NOFA) for applicants who will offer one (1) or a combination of the transitional housing bed models (i.e., Bridge Housing, Low Demand, Hospital-to-Housing, Clinical Treatment and Service-Intensive Transitional Housing) and for applicants who will offer service centers. Funding is based on a variety of factors including the quantity and quality of applications as well as the availability of funding.

DATES: Applications for grants under the GPD Program must be received by the GPD National Program Office by 4:00 p.m. Eastern Time on March 2, 2020. In the interest of fairness to all competing applicants, this deadline is firm as to date and hour. VA will treat as ineligible for consideration any application that is received after the deadline. Applicants should take this practice into account and submit their materials early to avoid the risk of unanticipated delays, computer service outages or other submission-related problems that might result in ineligibility.

ADDRESSES: For a Copy of the Application Package: The required documentation for applications is outlined under the Application Documentation Required sections of this NOFA. Note: There is an Application Documentation Required section for applications for transitional housing bed models and a separate Application Documentation Required section for applications for service centers. Questions should be referred to the GPD National Program Office at GPDgrants@va.gov. For detailed GPD Program information and requirements, see Title 38, Code of Federal Regulations (CFR) part 61 (38 CFR part 61).

Submission of Application Package: Applicants must submit applications electronically following instructions found at www.va.gov/homeless/gpd.asp. Applications may not be mailed, emailed or sent by fax. Applications must be received by the GPD National Program Office by 4:00 p.m. Eastern Time on the application deadline date. Applications must be submitted as a complete package. Materials arriving separately will not be included in the application package for consideration and may result in the application being rejected or not funded.

Technical Assistance: Information regarding how to obtain technical assistance with the preparation of a grant application is available on the GPD Program website at: www.va.gov/homeless/gpd.asp.

FOR FURTHER INFORMATION CONTACT: Jeffery Quarles, Director, Grant and Per Diem Program (673/GPD), VA National Grant and Per Diem Program Office, 10770 N. 46th Street Suite C-200, Tampa, FL 33617, (813) 979-3570. (This is not a toll-free number).

SUPPLEMENTARY INFORMATION: Funding Opportunity Title: GPD Per Diem Only Grant Program (PDO).

Announcement Type: Initial.

Funding Opportunity Number: VA-GPD-PDO-FY2020.

Catalog of Federal Domestic Assistance Number: 64.024, VA Homeless Providers Grant and Per Diem Program.

I. Funding Opportunity Description

A. Purpose: This NOFA announces the availability of per diem funding to 501(c)(3) and 501(c)(19) non-profit organizations, state and local governments, and recognized Indian Tribal governments. Each application must request either transitional housing bed model(s) or service center(s). Although transitional housing applications and service center applications are standalone applications, they will be reviewed, scored and selected for funding together. They will be selected based on their ranked order among all the applications submitted in response to this NOFA.

Transitional Housing Applications

• Applications are limited to up to one (1) transitional housing application per VA Medical Center (VAMC) catchment area per applicant's Employer Identification Number (EIN).

• Applications must include a minimum of five (5) transitional housing beds per model.

• Applications may include any combination of one, some or all transitional housing bed models.

• Choice of a model or combination of models is at the applicant's discretion. Applicants are encouraged to tailor the proposed model(s) to factors such as their own ability and the particular needs of the community.

• All housing model(s), site(s) and beds being proposed by the applicant for the VAMC catchment area must be included within a single application.

• If more than one (1) application per VAMC catchment area per applicant's EIN is received by the due date and time, VA will consider only one (1) application. VA reserves the right to select which application to consider based on the submission dates and times or based on other factors.

Service Center(s) Applications

• Applications are limited to up to one (1) service center application per VAMC catchment area per applicant's EIN.

• Choice of site(s) and service(s) is at the applicant's discretion. Applicants are encouraged to tailor their proposed site(s) and service(s) to factors such as their own ability and the particular needs of the community.

• All service center(s) being proposed by the applicant for the VAMC catchment area must be included within a single application.

• If more than one (1) application per VAMC catchment area per applicant's EIN is received by the due date and time, VA will consider only one (1) application. VA reserves the right to select which application to consider based on the submission dates and times or based on other factors.

Note: Applications for transitional housing beds and applications for service center(s) do not have to include coverage for the entire VAMC catchment area in the application. The coverage area; however, must not exceed the VAMC catchment area identified in the application. If an applicant does not know their VAMC catchment area, they can contact the local medical facility: https://www.va.gov/directory/guide/allstate.asp and ask to speak with the Homeless Program.

Applicants agree to meet the applicable requirements of 38 CFR part 61. In addition, all applicants need to demonstrate low barriers to accessing services and have policies and procedures for working with Veterans who relapse.

B. Definitions: 38 CFR part 61 contains definitions of terms used in the GPD Program that are applicable to this NOFA.

C. Eligibility Information: To be eligible, an applicant must be a 501(c)(3) or 501(c)(19) non-profit organization, state or local government, or recognized Indian Tribal government that meets the requirements in 38 CFR 61.1.

D. Cost Sharing or Matching: None.

E. Authority: Funding under this NOFA is authorized by 38 U.S.C. 2011, 2012.

F. Transitional Housing Models and Service Center Descriptions:

Note: For each of the model descriptions below that have Required Minimum Performance Metrics/Targets, targets are set for the initial funding year of this award (October 1, 2020-September 30, 2021). VA may, at its discretion, update these targets during the option year renewal process. Any new targets will be stated in the option year grant agreement.

Bridge Housing

Targeted Population—Homeless Veterans who have been offered and have accepted a permanent housing intervention but are not able to immediately enter the permanent housing. For purposes of this housing model, a Veteran is considered accepted for a permanent housing intervention if, for example, the Veteran has been accepted for case management as part of the Department of Housing and Urban Development-VA Supportive Housing (HUD-VASH) program even if the Veteran has not yet received the HUD-VASH voucher. Similarly, a Veteran is considered accepted for a permanent housing intervention if, for example, the Veteran has been accepted into a Supportive Services for Veterans Families (SSVF) but has not yet started services. Other permanent housing may also be identified (e.g., purchase of a home, an apartment lease). Applicants should review the availability of the community's permanent housing prior to applying under this model to avoid not being able to move Veterans to permanent housing as quickly as possible.

Model Overview—Bridge housing is intended to be a short-term stay in transitional housing for Veterans with pre-identified permanent housing destinations.

Characteristics & Standards—Goals in the Individual Service Plan (ISP) should be short-term with the focus on the move to permanent housing, rather than the completion of treatment goals. Veterans are expected to receive case management and support, which should be coordinated with the HUD-VASH, SSVF or other available community-based programs. Grantees will assist Veterans with accessing services as needed/requested by the Veteran and must make available to participants a menu of available services.

Length of Stay (LOS) will be individually determined based on need, but in general, is expected to average 90 days.

Admission Criteria—Veterans must have been offered and accepted a permanent housing intervention prior to admission with documentation to be completed within the first 14 days of admission.

Required Minimum Performance Metrics/Targets—Discharge to permanent housing target is 75 percent. Negative exits target is less than 20 percent. Negative exits are defined as those exits from a GPD program for a violation of program rules, failure to comply with program requirements or leaving the program without consulting staff.

Low Demand

Targeted Population—Homeless Veterans who suffer from mental-health or substance-use problems or who struggle with maintaining sobriety; and Veterans with multiple treatment failures who may have never received treatment services or may have been unsuccessful in traditional housing programs. These Veterans may have not yet fully committed to sobriety and treatment.

Model Overview—Low-Demand housing uses a high-engagement/harm-reduction model to better accommodate chronically homeless Veterans and Veterans who were unsuccessful in traditional treatment settings. Programming does not require sobriety or compliance with mental health treatment as a condition of admission or continued stay. Overall, demands are kept to a minimum; however, services are made widely available and are actively promoted by program staff as needed. The goal is to establish permanent housing in the community, while providing for the safety of staff and residents.

Characteristics & Standards—Project is small in size (typically 20 beds or less). Services must include case management, substance-use, and mental-health treatment. Referrals for benefits are made available as Veterans engage.

Must provide the participant an orientation that sets the expectations of performance for the participant. Must have 24/7, paid, appropriately trained, on-site staffing at the same location as the location of the program participant. (Using resident managers is not allowed.)

Must have a method to monitor participants' and guests' comings and goings.

Must have a system in place for managing contraband.

Must be willing to retain Veterans who commit minor infractions of rules and who cannot and/or will not stop drinking and/or using legal or illegal substances.

Must be committed to keeping the Veterans housed, staying continuously engaged with each Veteran and providing services as needed.

Must have procedures to ensure safety of staff and residents. The grantee agency must participate in calls twice per month and in an annual fidelity assessment process as established by VA.

Required Minimum Performance Metrics/Targets—Discharge to permanent housing target is 60 percent. Negative exits target is less than 20 percent. Negative exits are defined as those exits from a GPD program for a violation of program rules, failure to comply with program requirements or leaving the program without consulting staff.

Hospital-to-Housing

Targeted Population—Homeless Veterans who are identified and evaluated at inpatient care settings and emergency departments for suitability for direct transfer to a designated GPD program for transitional housing and supportive care. Veterans served under this model must be able to receive healthcare services from VA as a Homeless Patient Aligned Care Team (H-PACT), or other appropriate care team, will facilitate the ongoing care needs while in transitional housing.

Model Overview—Hospital-to-Housing is a model to address the housing and recuperative care needs of homeless Veterans who have been hospitalized.

Characteristics & Standards—Project is small (typically 10 beds or less). Housing sites are expected to be near the referring medical center so that ongoing clinical care, including specialty care, can continue to be provided.

Have a post-discharge care plan as pre-requisite to program placement that addresses ongoing physical, mental health, substance-use disorder and social work needs as well as care management plans to transition the Veteran to permanent housing upon clinical stabilization.

The VA H-PACT, or other appropriate care team, will facilitate and coordinate the ongoing care needs upon transition.

A Memorandum of Understanding (MOU) must be in place with the local VAMC that details participation in the Hospital-to-Housing program. Included in this should be a detailing of acceptance criteria for Veterans being referred from local inpatient care settings and emergency departments, a detailing of how follow-up care with the medical center is organized, and a commitment to engaging enrolled Veterans in permanent housing as part of program objectives.

Admission Criteria—Individual must be functional, able to perform independent Activities of Daily Living (ADL), not require acute detoxification, have no apparent psychosis and have a post discharge plan coordinating care with the VAMC (e.g., H-PACT Team, Mental Health, Substance Abuse).

Required Minimum Performance Metrics/Targets—Discharge to permanent housing target is 65 percent. Negative exits target is less than 20 percent. Negative exits are defined as those exits from a GPD program for a violation of program rules, failure to comply with program requirements or leaving the program without consulting staff.

Clinical Treatment

Targeted Population—Homeless Veterans with a specific diagnosis related to a substance-use disorder and/or mental-health diagnosis. Veteran actively chooses to engage in clinical services.

Model Overview—Clinically focused treatment is provided in conjunction with services effective in helping homeless Veterans secure permanent housing and increase income through benefits and/or employment.

Characteristics & Standards—Although the programming and services have a strong clinical focus, permanent housing and increased income are a required outcome of the program. Treatment programs must incorporate strategies to increase income and housing attainment.

Individualized assessment, services and treatment plan are tailored to achieve optimal results in a time efficient manner and are consistent with sound clinical practice.

Program stays are to be individualized based upon the ISP for the Veteran (not program driven).

Staff are to be licensed and/or credentialed to perform the substance-use disorder/mental health services provided as directed by state and local law. Treatment services must be provided by the applicant or through contract arrangement. (VA staff cannot be the treatment provider for this model.)

Veterans are offered a variety of treatment service modalities (e.g., individual and group counseling/therapy, family support groups/family therapy, psychoeducation).

Required Minimum Performance Metrics/Targets—Discharge to permanent housing target is 65 percent. Employment of individuals at discharge target is 55 percent. Negative exits target is less than 20 percent. Negative exits are defined as those exits from a GPD program for a violation of program rules, failure to comply with program requirements or leaving the program without consulting staff.

Service-Intensive Transitional Housing

Targeted Population—Homeless Veterans who choose a supportive transitional housing environment providing services prior to entering permanent housing.

Model Overview—Provides transitional housing and robust services that facilitate individual stabilization, increased income and movement to permanent housing as rapidly as clinically appropriate.

Characteristics & Standards—Scope of services should incorporate tactics to increase the Veteran's income through employment and/or benefits and obtaining permanent housing. Services provided, and strategies used by the applicant will vary based on the individualized needs of the Veteran and resources available in the community. The applicants are encouraged to provide an array of comprehensive services and/or to connect Veterans to resources available in the community. Applicants specify the staffing levels and range of services to be provided. See Funding Limitations section of this NOFA for the maximum number of Service-Intensive beds allowed per application.

Required Minimum Performance Metrics/Targets—Discharge to permanent housing target is 70 percent. Employment of individuals at discharge target is 55 percent. Negative exits target is less than 20 percent. Negative exits are defined as those exits from a GPD program for a violation of program rules, failure to comply with program requirements or leaving the program without consulting staff.

Service Centers

Targeted Population—Homeless Veterans who are seeking assistance with obtaining housing, employment, medical care or benefits.

Model Overview—Provides services and information to engage and aid homeless Veterans obtain housing and services. Veterans in GPD or in Healthcare for Homeless Veterans (HCHV) transitional housing programs are not eligible to be billed under a service center because GPD and HCHV housing programs already include an array of services to facilitate obtaining housing, employment or benefits.

Characteristics & Standards—Scope of services should incorporate tactics to engage and aid the Veteran. Services provided and strategies used by the applicant will vary based on the individualized needs of the Veteran and resources available in the community. Applicants specify the staffing levels and range of services to be provided. See 38 CFR 61.80 for additional information about service centers.

Other

Transition in Place (TIP) grantees do not need to respond to this NOFA. A separate NOFA will be published to announce availability of funding for TIP grants.

II. Award Information

A. Allocation of Funds: Awards provided under this NOFA will be for a period of one (1) year, beginning on October 1, 2020, and ending on September 30, 2021, with options for VA to offer up to two (2) additional years dependent upon factors such as: Funding availability, the recipient meeting the performance goals established in the grant agreement, utilization rates of beds or services, statutory and regulatory requirements and the results of the VA inspection. Continuation funding is not guaranteed.

B. Funding Restrictions: No part of an award under this NOFA may be used to facilitate capital improvements or to purchase vans or real property. Questions should be directed to VA's GPD National Program Office at the email address listed in the contact section of the NOFA. Applicants may not receive funding to replace funds provided by any Federal, state or local government agency or program to assist homeless persons.

C. Funding Limitations:

1. For all applications: VA's decisions will be based on factors such as need, geographic dispersion and availability of funding.

2. For applications for transitional housing bed models: Applicants are encouraged to consider the need in their community for transitional housing models that are more focused (i.e., Bridge, Low Demand, Hospital-to-Housing and/or Clinical Treatment) over the transitional housing model that is more general (i.e., Service-Intensive). To that end, applicants may request up to 15 Service-Intensive beds per application. If more than 15 Service-Intensive beds are requested within the same application, then at least 60 percent of the additional beds beyond 15 must be for a transitional housing bed model(s) other than Service-Intensive. For example, an applicant applying for 50 total beds must allocate at least 21 of those beds to a housing model(s) that is not Service-Intensive (i.e., 50 total beds requested minus 15 Service-Intensive beds = 35 beds times 60 percent = 21 non-Service-Intensive beds, leaving 14 beds out of the total 50 beds for additional Service-Intensive beds and/or other beds at the applicant's discretion).

A reminder that the minimum number of beds an applicant can request is five (5) beds per transitional housing model. A reminder that a separate application is required per VAMC catchment area per each applicant's EIN. Applicants are encouraged to review their proposed bed numbers carefully to make sure their request meets the requirements of the NOFA.

3. For applications that include a request for Hospital-to-Housing beds: Applications that do not include a MOU from the local VAMC will not be awarded any Hospital-to-Housing beds even if the application is otherwise selected for funding.

4. For applications for service center(s): VA expects to fund approximately 20 service center applications based on a variety of factors including the quantity and quality of applications as well as the availability of funding.

III. Application and Submission Information

A. To Obtain a Grant Application: Applicants must submit applications electronically following instructions found at www.va.gov/homeless/gpd.asp. The required documentation for an application submission is outlined below in the Application Documentation Required section of this NOFA. Standard forms, which must be included as part of a complete application package, may be downloaded directly from VA's GPD Program website at: www.va.gov/homeless/gpd.asp. Questions should be referred to the GPD National Program Office at GPDGrants@va.gov. For detailed GPD Program information and requirements, see 38 CFR part 61.

B. Content and Form of Application: VA is seeking to focus resources to assist Veterans who are homeless or at risk of becoming homeless. If your agency is unclear as to how to apply, contact the GPD National Program Office for clarification prior to submission of any application to ensure it is submitted in the correct format.

Applicants should ensure that they include all required documents in their electronic application submission, carefully follow the format and provide the information requested and described below. Submission of an incorrect, incomplete or incorrectly formatted application package will result in the application being rejected or not funded.

IV. Application Documentation Required for Transitional Housing Bed Models

Note: Refer to section V below for Application Documentation Required for Service Centers.

A. Standard Forms and budget information:

1. Application for Federal Assistance (SF-424)

2. Indirect cost information: Applicants that have a negotiated indirect cost rate agreement must provide a copy as an attachment to this application if they wish to charge indirect costs to the grant. Applicants without a negotiated indirect cost rate agreement may request the de minimis rate for indirect costs if they meet the definitions and requirements of 2 CFR part 200. All other allowable costs will be considered only if they are direct costs.

B. Eligibility: State/local government entities must provide as an attachment to the application a copy of any comments or recommendations by approved state and (areawide) clearinghouses pursuant to Executive Order 12372.

C. System for Award Management (SAM): Applicants must provide a current Data Universal Numbering System (DUNS) number, Unique Entity Identifier (UEI) and SAM expiration date.

D. Project Summary:

1. Name of the VAMC whose catchment area includes the transitional housing location(s) requested in this application. If requesting multiple sites, all sites must fall within the same VAMC catchment area. If requesting multiple sites, applicants should make sure each proposed site is strongly justified and well developed. The quality of each site will impact the overall score of the application.

2. Name(s) and number(s) of the Continuum of Care (CoC) where the transitional housing requested in this application will be located. If requesting sites in multiple CoCs, applicants should make sure sites in each CoC are strongly justified and well developed. The quality of sites in each CoC will impact the overall score of the application.

3. Number of beds per housing model for which your agency is requesting per diem in this application.

4. Location of housing provided under this application. Identify the address, city, state, zip code + four-digit extension, county, congressional district, the model(s) and number of GPD beds at each location and gender(s) served.

5. Per location, a description of how the facility's participant living space will be configured within the model(s) requested. Include the square footage of the room or bay, the number of beds in that square footage and if the beds will be bunked (e.g., Single room occupancy, 100 square feet, no bunk beds, bridge and service-intensive; Open bay, 900 square feet, 12 beds, 4 sets of bunk beds, service-intensive; Apartments, 1500 square feet, 1, 2, or 3 bedrooms, no bunk beds, bridge). Identify any differences among models, if applicable.

6. Per location, description of any additional populations or types of housing being provided from other non-GPD sources of funding at this location (e.g., children, women, permanent housing, contract care).

E. Applicant Contact Information:

1. Location of the administrative office where correspondence can be sent to the Executive Director/President/CEO (no P.O. Boxes). Include complete address, city, state, zip code + four-digit extension, county and congressional district.

2. Organization Primary Contact: Include the name, title, phone and email address. Note: This contact is assigned to the organization, not a specific grant award, and is normally someone who signs grant agreements or makes executive decisions for the organization. This is most often the CEO, the President or the Executive Director. Organizations with multiple awards can only have one (1) Organization Contact.

3. Grant Contact #1: Include the name, title, phone and email address. Note: This contact is specific to this grant application and may be a Program Manager, Director, Case Manager, Grant Administrator or other position overseeing the GPD grant project.

4. Provide as an attachment to the application a complete listing of your agency's officers of the Board of Directors and each person's address, phone and email address.

5. Describe your participation with the local Homeless Management Information System (HMIS). Background: HMIS is a locally-administered web-based data system used to record and analyze both program and client information at the local CoC level. It is used by Federal partners, including VA, to measure project performance and participate in benchmarking of the national effort to end homelessness. Currently, using HMIS is optional for GPD grantees.

F. Project Abstract: In approximately 500 words, provide a brief abstract of the proposed project. As applicable, include a discussion of multiple models, co-located models, multiple sites, multiple CoCs and/or other information relevant to an understanding of the overall project.

G. Detailed Application Design: This is the portion of the application that describes your proposed program. VA reviewers will focus on how the detailed application design addresses the areas of outreach, project plan, model specific questions, ability, need and coordination in relation to the selected model(s) including how support services will be coordinated in relationship to the selected model(s). Note: There are some questions that only apply to specific models (i.e., Bridge, Low Demand, Hospital-to-Housing, Clinical Treatment, Service-Intensive). Applicants applying for these models must include responses to these questions in the application. Note: The word count suggestions below account for space needed for applications with multiple models. It is understood that applications with one or few models generally would use less space than the suggested limit.

VA expects applicants awarded under this NOFA will meet the VA performance metrics for the selected model(s). With those metrics in mind, and in response to the following sections, please include strategies to meet or exceed VA's national metric targets. The requirements in this section are consistent with 38 CFR part 61.

(a) Outreach (see 38 CFR 61.13(c)): This is the portion of the application where applicants will discuss how the outreach plan is tailored to the specific model(s) chosen and how services will be provided for Veterans living in places not ordinarily meant for human habitation (e.g., streets, parks, abandoned buildings, automobiles, emergency shelters). Applications will be scored on responses to the following questions:

1. Outreach—In approximately 250 words, describe your agency's plan to conduct outreach, including frequency of outreach, to your selected Veteran population(s) living in places not ordinarily meant for human habitation (e.g., streets, parks, abandoned buildings, automobiles, emergency shelters).

2. Outreach—In approximately 1,000 words, describe per housing model named in Project Summary question IV.D.3, where your organization will target and tailor its outreach efforts to identify appropriate Veterans for this program.

3. Outreach—In approximately 500 words, describe your agency's involvement in the Coordinated Assessment/Entry efforts of the CoC(s) named in Project Summary question IV.D.2. How does the plan fit into each CoC's plan to end homelessness?

(b) Project Plan (see 38 CFR 61.13(b)): VA wishes to provide the most appropriate housing based on the needs of the individual Veteran. Applicants will be asked to answer questions based on the specific model(s) chosen for this application. Applications will be scored on responses to the following questions:

1. Project Plan—In approximately 500 words, describe how you will ensure that homeless Veterans will be offered available permanent housing resources prior to entering the program.

2. Project Plan—In approximately 2,000 words, by housing model named in Project Summary question IV.D.3, provide a list of the supportive services offered. This list should include a brief description of the service; the minimum frequency that the service will be offered; and the job title, including minimum credentials of the individual(s) that will be providing the service.

3. Project Plan—VA places emphasis on lowering barriers to admissions. In approximately 500 words, describe your admission criteria and the specific process for deciding which Veterans are appropriate for admission for each housing model named in Project Summary question IV.D.3.

4. Project Plan—In approximately 500 words, address whether the project will serve mixed gender populations in a single facility and/or individual with children. Provide a listing and explanation of any gender-specific services. Identify any differences among the models, if applicable.

5. Project Plan—In approximately 500 words, describe how the safety, security and privacy of participants will be ensured.

6. Project Plan—In approximately 500 words, provide your agency's ISP methodology and the core items to be addressed in the ISP.

7. Project Plan—In approximately 500 words, describe how, when and by whom participants' progress toward meeting their individual goals will be monitored, evaluated and documented. Include descriptions of your agency's expectations regarding the frequency of progress notes and case conferencing and how this will be documented.

8. Project Plan—In approximately 500 words, describe how permanent affordable housing will be identified, documented in the ISP and be made known to participants who plan on leaving the supportive housing.

9. Project Plan—In approximately 500 words, describe how necessary follow-up services will be provided, for example, how often they will occur and the duration of the follow-up.

10. Project Plan—In approximately 500 words, describe how Veteran participants will have a voice and aid in operating and maintaining the housing (e.g., volunteer time, paid positions, community governance meetings, peer support).

11. Project Plan—In approximately 500 words, if your agency plans to use any subrecipient(s) and/or contractor(s) for operating and/or maintaining the housing, describe the responsibilities of the subrecipient(s) and/or contractor(s).

12. Project Plan—In approximately 500 words, describe program policies regarding a clean and sober environment. Include in the description how participant relapse will be handled and how these policies will impact admission and discharge criteria.

13. Project Plan—In approximately 500 words, provide and describe the type and implementation of the medication control system that will be used in this project (e.g., Medication Management, Medication Monitoring, individual storage). For reference, applicants may review these requirements at: www.va.gov/homeless/gpd.asp.

14. Project Plan—In approximately 250 words, describe program polices regarding participant agreements, including any leases and subleases, if used.

15. Project Plan—In approximately 250 words, describe program polices regarding extracurricular fees, resident rent fees or other fees that will be charged.

16. Project Plan—In approximately 500 words, describe how you will aid Veterans who seek increased income or benefits.

17. Project Plan—In approximately 500 words, address how your agency will facilitate the provision of nutritional meals for the Veterans. Be sure to describe how Veterans with little or no income will be assisted.

18. Project Plan—VA puts great emphasis on placing Veterans in the most appropriate housing situation as rapidly as possible. In approximately 500 words, provide a timeline noting specific services that support housing stabilization from admission through exit. Include evidence of coordination of transition services your agency expects to offer.

19. Project Plan—In approximately 250 words, describe how you will facilitate transportation of the Veteran participants with and without income to appointments, employment and supportive services.

(c) Model Specific Questions: Applicants must respond to the following questions only for the model(s) named in Project Summary question IV.D.3. Applicants should make sure each proposed model is strongly justified and well developed. The quality of each model will impact the overall score of the application.

1. Bridge Housing Model—The availability of permanent housing options is key to this model. In approximately 500 words, describe how your bridge housing is coordinated with permanent housing resources as part of a Housing First plan for homeless Veterans. Be sure to describe how your project will be coordinated with local HUD-VASH, Housing Coalition/CoC, and/or SSVF programs.

2. Bridge Housing Model—In approximately 250 words, describe the referral to permanent housing process.

3. Bridge Housing Model—In approximately 250 words, describe how ongoing care will be coordinated while in GPD with the local permanent housing providers.

4. Low Demand Model—In approximately 500 words, how will your agency manage a safe environment if a Veteran return to the project impaired? Describe the safe environment including your agency's plan for using resources in a crisis (e.g., a sober lounge, a safe room). Describe how monitoring will be achieved.

5. Low Demand Model—In approximately 250 words, describe how 24/7, paid, appropriately trained, on-site supervision required for this model will be provided. Be sure to discuss coverage during evenings, weekends, holidays and other irregular scheduling times.

6. Low Demand Model—In approximately 250 words, describe the approaches that will be used to keep the Veterans engaged in services.

7. Hospital-to-Housing Model—In approximately 250 words, describe the assessment process for identifying potential candidates.

8. Hospital-to-Housing Model—Because this model depends on referrals from the local VAMC, in approximately 250 words, describe how your agency will coordinate messaging about the availability of services to maximize appropriate referrals.

9. Hospital-to-Housing Model—Applicants for this model must attach to the application an MOU between the local VAMC (i.e., the VAMC Director or the appropriate authorized VAMC representative per the local VAMC's practice) and the applicant. The MOU must demonstrate the local VAMC's detailed participation in the Hospital-to-Housing program. Included in the MOU should be a detailing of acceptance criteria for Veterans being referred from local inpatient care settings and local emergency departments, a detailing of how follow-up care with the VAMC is organized, and a commitment to engaging enrolled Veterans in permanent housing as part of the program. Failure to submit an MOU will result in this model not being approved for funding even if the application is otherwise selected for funding. Applicants are strongly encouraged to allow as much time as possible, and no less than 30 days, for a VAMC to provide an MOU. All application materials must be submitted together in a single package by the due date and time. Any materials arriving separately or late will not be accepted as part of the application.

10. Clinical Treatment Model—In approximately 500 words, describe if the proposed project will provide services to Veterans with substance abuse disorders and/or with mental health diagnoses. Also, describe the approaches used to treat the selected population(s). Include evidence-based approaches when possible. Confirm that VA staff will not be the treatment provider.

11. Clinical Treatment Model—In approximately 500 words, describe how you will ensure that permanent housing and employment/income improvements will occur and lead to successful outcomes.

12. Service-Intensive Model—In approximately 500 words, describe how you will ensure that permanent housing and employment/income improvements will occur and lead to successful outcomes.

(d) Ability (see 38 CFR 61.13): This is the portion of the application where applicants demonstrate experience regarding the selected population(s). Applications will be scored on responses to the following questions:

1. Ability—Provide as an attachment to the application a table or spreadsheet of the staffing plan for this project (see example 1). Do not include resumes.

Example 1

Job title | Brief (1-2 sentence) description of responsibilities | Educational level | Hours per week allocated to GPD project (40 hours equals full-time) | Amount of annual salary allocated to the GPD project | Amount of salary for the full-time position
Case manager | Responsible for working with the Veteran to develop and monitor an individual service plan and to adjust the plan as needed. Coordinates support with other community agencies. | BSW | 30 hours | $60,000 | $80,000

2. Ability—In approximately 500 words, describe your agency's previous experience assessing and providing for the housing needs of homeless Veterans. If applicable, include a description of previous experience under your chosen model(s) as named in Project Summary question IV.D.3.

3. Ability—In approximately 250 words, describe your agency's ability to get the project started within 180 days from the potential award date. Describe the start-up activities, the timing involved and when the project would be expected to be fully functional.

4. Ability—In approximately 500 words, describe your agency's previous experience in assessing and providing supportive service resources and entitlement benefits to homeless Veterans under your chosen model(s) as named in Project Summary question IV.D.3.

5. Ability—In approximately 500 words, describe your agency's previous experience with evaluating the progress of both individual participants and overall program effectiveness through using quality and performance data to make changes. Describe your agency's experience with meeting past performance goals. Do not include with the application past inspection forms or past VA performance reports.

6. Ability—In approximately 250 words, is your agency accredited and/or licensed to provide clinical services? If yes, describe your agency's accreditation and/or licensure.

7. Ability—In approximately 500 words, describe the organization's staff development plan to help staff gain and maintain the knowledge, skills and abilities to provide culturally competent and relevant related services to people impacted by racial inequity. Include details on how staff will participate in specific training activities.

(e) Need (see 38 CFR 61.13): This is the portion of the application where applicants demonstrate that the proposed project is necessary. Applications will be scored on responses to the following questions:

1. Need—In approximately 500 words, describe how this project's proposed model(s) and bed numbers are tailored to the particular needs of the CoC(s). Describe how this project will fit with the strategy of the CoC(s) to end homelessness. Cite reliable data from surveys of homeless populations or other reports or data-gathering mechanisms. Note: If multiple CoCs are named in the Project Summary question IV.D.2, your response here should discuss each of those CoCs.

2. Need—In approximately 500 words, describe with whom you consulted outside of your agency to determine the need for the proposed transitional housing model(s) and bed numbers within the CoC(s). Note: If multiple CoCs are named in the Project Summary question IV.D.2, your response here should discuss each of those CoCs.

(f) Coordination (see 38 CFR 61.13): This is the portion of the application where applicants will demonstrate their involvement in the homeless Veteran continuum. Applications will be scored on responses to the following questions:

1. Coordination—In approximately 500 words, describe how your agency is part of an ongoing community-wide planning process to end Veteran homelessness. Note: If multiple CoCs are named in the Project Summary question IV.D.2, your response here should discuss each of those CoCs.

2. Coordination—In approximately 500 words, describe how your process is designed to share information on available resources and reduce duplication among programs that serve homeless Veterans. Note: If multiple CoCs are named in the Project Summary question IV.D.2, your response here must discuss each of those CoCs. Applicants who wish to provide a letter(s) of coordination from the local CoC(s) may attach a letter(s) at the end of the application. Applicants are strongly encouraged to allow as much time as possible, and no less than 30 days, for a CoC to provide a letter of coordination. All application materials must be submitted together in a single package by the due date and time. Any materials arriving separately or late will not be accepted as part of the application.

3. Coordination—In approximately 250 words, describe how your agency consulted directly with the VAMC Director (or the appropriate authorized VAMC representative per the local VAMC's practice) regarding coordination of services for project participants. Provide your plan to assure access to healthcare, case management and other care services. Applicants who wish to provide a letter of coordination from the local VAMC must attach a letter at the end of the application. Applicants are strongly encouraged to allow as much time as possible, and no less than 30 days, for a VAMC to provide a letter of coordination. All application materials must be submitted together in a single package by the due date and time. Any materials arriving separately or late will not be accepted as part of the application.

V. Application Documentation Required for Service Centers

Note: Refer to section IV above for Application Documentation Required for Transitional Housing Bed Models.

A. Standard Forms and budget information:

1. Application for Federal Assistance (SF-424)

2. Indirect cost information: Applicants that have a negotiated indirect cost rate agreement must provide a copy as an attachment to this application if they wish to charge indirect costs to the grant. Applicants without a negotiated indirect cost rate agreement may request the de minimis rate for indirect costs if they meet the definitions and requirements of 2 CFR part 200. All other allowable costs will be considered only if they are direct costs.

B. Eligibility: State/local government entities must provide as an attachment to the application a copy of any comments or recommendations by approved state and (areawide) clearinghouses pursuant to Executive Order 12372.

C. System for Award Management (SAM): Applicants must provide a current Data Universal Numbering System (DUNS) number, Unique Entity Identifier (UEI) and SAM expiration date.

D. Project Summary:

1. Name of the VAMC whose catchment area includes the service center location(s) requested in this application. If requesting multiple sites, all sites must fall within the same VAMC catchment area. If requesting multiple sites, applicants should make sure each proposed site is strongly justified and well developed. The quality of each site will impact the overall score of the application.

2. Name(s) and number(s) of the CoC(s) of where the service center(s) requested in this application will be located. If requesting sites in multiple CoCs, applicants should make sure sites in each CoC are strongly justified and well developed. The quality of sites in each CoC will impact the overall score of the application.

3. Estimated number of hourly service center visits to be provided annually for all service center(s) for which your agency is requesting per diem in this application.

4. Location of services provided under this application. Identify the address, city, state, zip code + four-digit extension, county, other counties served and congressional district.

E. Applicant Contact Information:

1. Location of the administrative office where correspondence can be sent to the Executive Director/President/CEO (no P.O. Boxes). Include complete address, city, state, zip code + four-digit extension, county and congressional district.

2. Organization Primary Contact: Include the name, title, phone and email address. Note: This contact is assigned to the organization, not a specific grant award, and is normally someone who signs grant agreements or makes executive decisions for the organization. This is most often the CEO, the President or the Executive Director. Organizations with multiple awards can only have one (1) Organization Contact.

3. Grant Contact #1: Include the name, title, phone and email address. Note: This contact is specific to this grant application and may be a Program Manager, Director, Case Manager, Grant Administrator or other position overseeing the GPD grant project.

4. Provide as an attachment to the application a complete listing of your agency's officers of the Board of Directors and each person's address, phone and email address.

5. Describe your participation with the local HMIS. Background: HMIS is a locally-administered web-based data system used to record and analyze both program and client information at the local CoC level. It is used by Federal partners, including VA, to measure project performance and participate in benchmarking of the national effort to end homelessness. Currently, using HMIS is optional for GPD grantees.

F. Project Abstract: In approximately 500 words, provide a brief abstract of the proposed project. As applicable, include a discussion of multiple sites, multiple CoCs and/or other information relevant to an understanding of the overall project.

G. Detailed Application Design: This is the portion of the application that describes your proposed grant. VA reviewers will focus on how the detailed application design addresses the areas of outreach, project plan, ability, need and coordination in relation to the proposed service center(s) including how support services will be coordinated.

VA expects applicants awarded under this NOFA will meet the standards described in their applications for populations served, services provided and visits annually. See also 38 CFR 61.80 for VA performance requirements for service centers. Keep this in mind when responding to the following sections. The requirements in this section are consistent with 38 CFR part 61.

(a) Outreach (see 38 CFR 61.13): This is the portion of the application where applicants will discuss how the outreach plan is tailored to the service center(s) and how services will be provided for Veterans living in places not ordinarily meant for human habitation (e.g., streets, parks, abandoned buildings, automobiles, emergency shelters). Applications will be scored on responses to the following question:

1. Outreach—In 1,000 words, describe your agency's plan to conduct outreach, including frequency of outreach, to Veteran populations living in places not ordinarily meant for human habitation (e.g., streets, parks, abandoned buildings, automobiles, emergency shelters). Include a description of your agency's involvement in the Coordinated Assessment/Entry efforts of the CoC(s) named in Project Summary question V.D.2.

(b) Project Plan (see 38 CFR 61.13): VA wishes to provide the most appropriate services based on the needs of the individual Veteran. Applicants seeking a service center(s) should focus on what they are providing in the service center(s). For instance, most service centers do not begin ISPs on drop-in individuals because the focus is on engagement. Instead, applicants could respond by stating how the individual is identified for follow-up or additional service. Applications will be scored on responses to the following questions:

1. Project Plan—In approximately 500 words, describe how you will ensure homeless Veterans will be offered available permanent housing resources prior to entering the program.

2. Project Plan—List the supportive services provided and by whom to help participants achieve residential stability, increase skill level and/or income and become involved in making life decisions that will increase self-determination. In addition to the list, describe in approximately 2,000 words the services, the hours per week the services will be available and the job title of the position that will provide the service.

3. Project Plan—In approximately 500 words, describe how the success of the program will be evaluated on an ongoing basis.

4. Project Plan—In approximately 500 words, describe how the nutritional needs of Veterans will be met.

5. Project Plan—In approximately 500 words, describe how the agency will ensure a clean and sober environment.

6. Project Plan—In approximately 500 words, describe how the proposed project will be implemented in a timely fashion.

7. Project Plan—The success of service centers is predicated upon the engagement of the homeless Veteran community. In approximately 500 words, describe how your agency will engage and influence homeless Veterans in how they will address their housing, physical, medical and mental health needs.

(c) Ability (see 38 CFR 61.13): This is the portion of the application where applicants demonstrate experience regarding the selected population(s) or services. Applications will be scored on responses to the following questions:

1. Ability—Provide as an attachment to the application a table or spreadsheet of the staffing plan for this project (see example 2). Do not include resumes.

Example 2

Job Title | Brief (1-2 sentence) description of responsibilities | Educational Level | Hours per week allocated to GPD project (40 hours equals full-time) | Amount of annual salary allocated to the GPD project | Amount of salary for the full-time position
Case manager | Responsible for working with the Veteran to provide supportive services and to adjust the services as needed. Coordinates support with other community agencies. | BSW | 30 hours | $60,000 | $80,000

2. Ability—In approximately 500 words, describe your agency's previous experience operating a service center.

3. Ability—In approximately 500 words, describe your agency's previous experience assessing and providing supportive services to homeless Veterans. Include a discussion of your ability to facilitate access to job training, benefits, mental health services, substance abuse supports and legal services.

4. Ability—In approximately 500 words, describe the organization's staff development plan to help staff gain and maintain the knowledge, skills and abilities to provide culturally competent and relevant related services to people impacted by racial inequity. Include details on how staff will participate in specific training activities.

(d) Need (see 38 CFR 61.13): This is the portion of the application where applicants demonstrate that the proposed project is necessary. Applications will be scored on responses to the following questions:

1. Need—In approximately 500 words, describe how this project is tailored to the particular needs of the CoC(s). Describe how this project will fit with the strategy of the CoC(s) to end homelessness. Cite reliable data from surveys of homeless populations or other reports or data-gathering mechanisms. Note: If multiple CoCs are named in the Project Summary question V.D.2, your response here should discuss each of those CoCs.

2. Need—In approximately 500 words, describe with whom you consulted outside of your agency to determine the need for the proposed services. Note: If multiple CoCs are named in the Project Summary question V.D.2, your response here should discuss each of those CoCs.

(e) Coordination (see 38 CFR 61.13): This is the portion of the application where applicants will demonstrate their involvement in the homeless Veteran continuum. Applications will be scored on responses to the following questions:

1. Coordination—In approximately 500 words, describe how your agency is part of an ongoing community-wide planning process to end Veteran homelessness. Note: If multiple CoCs are named in the Project Summary question V.D.2, your response here should discuss each of those CoCs.

2. Coordination—In approximately 500 words, describe how your agency has coordinated GPD services with other programs offered in the CoC(s) named in the Project Summary question V.D.2.

3. Coordination—In approximately 250 words, describe how your agency consulted directly with the VAMC Director (or the appropriate authorized VAMC representative per the local VAMC's practice) regarding coordination of services for project participants. Provide your plan to assure access to healthcare, case management and other care services. Applicants who wish to provide a letter of coordination from the local VAMC must attach a letter at the end of the application. Applicants are strongly encouraged to allow as much time as possible, and no less than 30 days, for a VAMC to provide a letter of coordination. All application materials must be submitted together in a single package by the due date and time. Any materials arriving separately or late will not be accepted as part of the application.

VI. Application Review Information

A. Criteria for Grants: Although transitional housing applications and service center applications are standalone applications, they will be reviewed, scored and selected for funding together based on their ranked order among all the applications submitted in response to this NOFA. Submission of an incorrect, incomplete or incorrectly formatted application package will result in the application being rejected at threshold. Applications that meet threshold will be scored according to the rating criteria described in 38 CFR 61.32.

B. Review and Selection Process: The review and selection process may be found at 38 CFR 61.13 and 38 CFR 61.32.

C. Tie Score: In the event of a tie score between applications, VA will determine at its discretion how to handle selection decisions (e.g., selecting multiple applications for award, awarding for less than requested).

D. Funding Actions: Funding is not guaranteed. Conditionally selected applicants will be asked to submit additional information as necessary according to 38 CFR 61.32. Applicants will be notified of the deadline to submit such information. If an applicant is unable to meet any conditions for the grant award within the specified time, VA may non-select the applicant and may use the funding for another applicant(s). VA may negotiate bed numbers, model(s) and/or service center arrangements with conditionally selected applicants and will incorporate any changes into the grant agreement. VA reserves the right to adjust the amount of a grant or elect not to continue funding for subsequent years. VA reserves the right to make adjustments up or down (e.g., to bed numbers, to housing models, to locations) as needed within the intent of the NOFA based on a variety of factors including the quantity and quality of applications as well as the availability of funding. Upon signature of the grant agreement by the Secretary, or designated representative, final selection will be completed, and the grant funds will be obligated for the funding period.

VII. Award Administration Information

A. Award Notice: Although subject to change, the GPD Program Office expects to announce grant awards in the fourth quarter of FY 2020. Awards will be for one (1) year with the possibility of up to two (2) option years. Continuation funding is not guaranteed. VA reserves the right in option years to make adjustments up or down (e.g., to bed numbers, to housing models, to locations) as needed within the intent of the NOFA based on a variety of factors including availability of funding and performance. The initial announcement will be made via news release which will be posted on VA's GPD National Program website at: www.va.gov/homeless/gpd.asp. Following the initial announcement, the GPD Office will send notification letters to the grant recipients. Applicants who are not selected will be sent a declination letter.

B. Administrative and National Policy: VA places great emphasis on responsibility and accountability. VA has procedures in place to monitor services provided to homeless Veterans and outcomes associated with the services provided under this GPD program. All awardees that are selected in response to this NOFA must meet the requirements of the current edition of the Life Safety Code of the National Fire Protection Association as it relates to their specific facility (38 CFR 61.80). Applicants should note that all facilities are to be protected throughout by an approved automatic sprinkler system unless a facility is specifically exempted under the Life Safety Code. Applicants should consider this when submitting their grant applications as no funds will be made available for capital improvements under this NOFA.

C. Grantees must ensure staff supported by grant funds are trained regarding suicide prevention and how to address situations where Veterans demonstrate suicidal ideation. Standard operating procedures are to be developed, in consultation with your local VA medical facility, surrounding suicide prevention.

D. Payment: Per diem will be paid in a method that is in accordance with VA and other Federal fiscal requirements. The per diem payment calculation may be found at 38 CFR 61.33. Awardees will be subject to requirements of this NOFA, GPD regulations, 2 CFR part 200 and other Federal grant requirements. A full copy of the regulations governing the GPD Program is available at the GPD website at: www.va.gov/homeless/gpd.asp. Awardees will be required to support their request for payments with adequate fiscal documentation as to project income and expenses. Awardees that have a negotiated indirect cost rate agreement must provide GPD with an updated copy annually or when available.

E. Reporting:

1. Upon execution of a grant agreement with VA, grantees will have a liaison appointed from a nearby VAMC to provide oversight and monitor services provided to homeless Veterans in the program.

2. Monitoring will include, at a minimum, a quarterly review of each per diem program's progress toward meeting VA's performance metrics, helping Veterans attain housing stability, adequate income support and self-sufficiency as identified in the application. Monitoring may also include a review of the agency's income and expenses as they relate to this project to ensure payment is accurate and to ensure compliance with program requirements. The grantee will be expected to demonstrate adherence to the grantee's proposed program concept, as described in the grantee's application. All grantees are subject to audits conducted by VA or its representative.

3. Flexibility of Beds: For those applicants that are successfully funded for multiple models under this NOFA, VA will allow, without a change of scope, a flex of beds between the applicant's models at the same VAMC. This flex will be up to five (5) beds per grant award. Successful applicants who seek a greater number of flex beds than what is allowed must receive prior written approval from the GPD National Program Office. Bed utilization rates can impact future award decisions in potential option year(s).

4. Each funded program will participate in VA's national program monitoring and evaluation as these procedures will be used to determine successful accomplishment of housing, employment and self-sufficiency outcomes for each per diem-funded program. Note: For each of the model descriptions above that have Required Minimum Performance Metrics/Targets, the targets are set for the initial funding year of this award (October 1, 2020-September 30, 2021). VA may, at its discretion, update these targets during the option year renewal process. Any new targets will be stated in the option year grant agreement.

Signing Authority

The Secretary of Veterans Affairs approved this document and authorized the undersigned to sign and submit the document to the Office of the Federal Register for publication electronically as an official document of the Department of Veterans Affairs. Pamela Powers, Chief of Staff, Department of Veterans Affairs, approved this document on December 19, 2019, for publication.

Luvenia Potts,
Regulation Development Coordinator, Office of Regulation Policy & Management, Office of the Secretary, Department of Veterans Affairs.

[FR Doc. 2019-28095 Filed 12-27-19; 8:45 am]

BILLING CODE 8320-01-P